DEPARTMENT OF HOMELAND SECURITY

Coast Guard

33 CFR Part 117

[Docket No. USCG-2013-0072]

Drawbridge Operation Regulations; Chelsea River, Chelsea and East Boston, MA

AGENCY: Coast Guard, DHS.

ACTION: Notice of temporary deviation from regulation.

SUMMARY: The Coast Guard has issued a temporary deviation from the regulation governing the operation of the Chelsea Street Bridge across the Chelsea River, mile 1.2, between Chelsea and East Boston, Massachusetts. The vertical lift needs to be adjusted to correct an out of skew condition. This deviation requires the bridge to remain closed for four hours.

DATES: This deviation is effective from 8 p.m. until midnight on February 21, 2013.

ADDRESSES: The docket for this notice, USCG-2013-0072, is available online at www.regulations.gov by typing in the docket number in the “SEARCH” box and clicking “SEARCH.” Next, click on the Open Docket Folder on the line associated with this notice. The docket is also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this notice, call or email Mr. John McDonald, Project Officer, First Coast Guard District, telephone (617) 223-8364, john.w.mcdonald@uscg.mil. If you have questions on viewing the docket, call Barbara Hairston, Program Manager, Docket Operations, telephone 202-366-9826.

SUPPLEMENTARY INFORMATION: The Chelsea Street Bridge, across the Chelsea River, mile 1.2, between Chelsea and East Boston, Massachusetts, has a vertical clearance in the closed position of 7 feet above mean high water and 17 feet above mean low water, and 175 feet above mean high water in the full open position. The bridge opens on signal at all times as required by 33 CFR 117.593.

The waterway is transited predominantly by commercial operators delivering petroleum products to facilities located upstream from the new bridge.

The lift span at the new bridge is out of skew and must be adjusted to prevent damage to the operating system. The adjustment maintenance requires the bridge to remain in the closed position for four hours.

The upstream oil facilities were all advised regarding the four hour closure. No objections were received.

Under this temporary deviation the bridge may remain in the closed position from 8 p.m. through midnight on February 21, 2013.

In accordance with 33 CFR 117.35(e), the bridge must return to its regular operating schedule immediately at the end of the designated time period. This deviation from the operating regulations is authorized under 33 CFR 117.35.

Dated: February 11, 2013.
Gary Kassof,
Bridge Program Manager, First Coast Guard District.

[FR Doc. 2013-03883 Filed 2-19-13; 8:45 am]

BILLING CODE 9110-04-P